DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Action(s)

On February 18, 2020, OFAC determined that the property and interests in property subject to U.S. jurisdiction of the following persons subject to U.S. jurisdiction are blocked under the relevant sanctions authorities listed below.

Entity

1. ROSNEFT TRADING S.A., Rue Place du Lac 2, 1204, Geneva, Switzerland; website www.rosneft.com; Executive Order 13662 Directive Determination—Subject to Directive 2; alt. Executive Order 13662 Directive Determination—Subject to Directive 4; Tax ID No. CHE-309.842.573 (Switzerland); Registration Number CH-660.0.257.011-8 (Switzerland); For more information on directives, please visit the following link: http://www.treasury.gov/resource-center/sanctions/Programs/Pages/ukraine.aspx#directives. [UKRAINE-EO13662] [VENEZUELA-EO13850] (Linked To: OPEN JOINT-STOCK COMPANY ROSNEFT OIL COMPANY).

Designated pursuant to section 1(a)(i) of Executive Order 13850 (E.O. 13850) of November 1, 2018, “Blocking Property of Additional Persons Contributing to the Situation in Venezuela,” 83 FR 55243, 3 CFR, 2019 Comp., p. 881, as amended by Executive Order 13857 (E.O. 13857), “Taking Additional Steps to Address the National Emergency with Respect to Venezuela,” of January 25, 2019, 84 FR 509, for operating in the oil sector of the Venezuelan economy.

Individual

1. CASIMIRO, Didier, Moscow, Russia; DOB 15 Nov 1966; POB Vilvoorde, Belgium; Gender Male (individual) [VENEZUELA-EO13850] (Linked To: ROSNEFT TRADING S.A.).

Designated pursuant to section 1(a)(iv) of E.O. 13850, as amended by E.O. 13857, for having acted or purported to act for or on behalf of, directly or indirectly, ROSNEFT TRADING S.A., a person whose property and interests in property are blocked pursuant to E.O. 13850.

Dated: February 18, 2020.
Andrea Gacki,
Director, Office of Foreign Assets Control.

[FR Doc. 2020-03482 Filed 2-20-20; 8:45 am]

BILLING CODE 4810-AL-P